DEPARTMENT OF ENERGY

Federal Energy Regulatory Commission

[Docket No. RP12-1021-000]

Columbia Gas Transmission, LLC; Notice of Offer of Settlement

Take notice that on September 4, 2012, Columbia Gas Transmission, LLC (Columbia) filed a Stipulation and Agreement (Settlement), including pro forma tariff records, pursuant to 18 CFR 385.602 (2012) to reduce its base rates for transportation service and address numerous complex issues arising out of recent and anticipated changes in pipeline safety requirements, Columbia's dedication to pipeline safety and reliability of service, and the aging nature of Columbia's system.

Columbia states that the settlement provides for the implementation of a new Capital Cost Recovery Mechanism (CCRM), which will allow Columbia to recover, through an additive capital demand rate, its revenue requirement for capital investments made under Columbia's long-term plan to modernize its interstate transmission system. The Settlement also establishes: (1) Revised transmission depreciation and negative salvage rates effective January 1, 2012 through December 31, 2024; (2) a revenue sharing mechanism pursuant to which Columbia will share 75% of specified revenues earned in excess of an annual threshold; (3) a moratorium through January 31, 2018 on changes to Columbia's reduced transportation base rates pursuant to the Stipulation; (4) a commitment from Columbia that it will file a general Natural Gas Act (NGA) Section 4(e) rate application to be effective no later than February 1, 2019; and (5) additional shipper-requested terms, all as described more fully in the Settlement filing.

Columbia states that it has served copies of this filing on all affected customers and interested state commissions. Columbia respectfully requests that the Commission issue an order approving the settlement no later than December 1, 2012.

Any person desiring to intervene or to protest this filing must file in accordance with Rules 211 and 214 of the Commission's Rules of Practice and Procedure (18 CFR 385.211 and 385.214 (2012)) by the date set forth below. Protests will be considered by the Commission in determining the appropriate action to be taken, but will not serve to make protestants parties to the proceeding. Any person wishing to become a party must file a notice of intervention or motion to intervene, as appropriate. Such notices or motions must be filed on or before the dates as indicated below. Anyone filing an intervention or protest must serve a copy of that document on the Applicant. Anyone filing an intervention or protest on or before the intervention or protest date set below need not serve motions to intervene or protests on persons other than the Applicant. Pursuant to Rule 602(f)(2) of the Commission's Rules of Practice and Procedure, 18 CFR 385.602(f)(2) (2012), initial comments on the Settlement are due not later than 20 days after the filing of the Settlement, and reply comments are due not later than 30 days after the filing of the Settlement.

The Commission encourages electronic submission interventions and comments in lieu of paper using the “eFiling” link at http://www.ferc.gov. This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Interventions and Comments are due by: September 24, 2012.

Reply Comments are due by: October 4, 2012.

Dated: September 11, 2012.
Kimberly D. Bose,
Secretary.

[FR Doc. 2012-23031 Filed 9-18-12; 8:45 am]

BILLING CODE 6717-01-P